DEPARTMENT OF HEALTH AND HUMAN SERVICES

Health Resources and Services Administration

Preference for Healthy Start Grantees

AGENCY: Health Resources and Services Administration (HRSA), HHS.

ACTION: General notice.

BACKGROUND: This notice supplements the 2007 HRSA announcement (HRSA 08-023/08-031) of the availability of fiscal year (FY) 2008 funding for new and competing continuation applications for Healthy Start. Healthy Start strengthens communities to effectively address the causes of infant mortality, low birth weight and other poor perinatal outcomes for women and infants. Recently, new guidance became available with regards to funding FY 2008 Healthy Start programs.

SUMMARY: The Conference Report (H.R. Rep. No. 110-107) accompanying the Consolidated Appropriations Act 2008 (Pub. L. 110-161), Division G—Departments of Labor, Health and Human Services, and Education, and Related Agencies Appropriations Act, 2008, indicates concurrence with the Senate report language regarding the recompetition of Healthy Start programs. Following the Senate Committee's recommendation, the Health Resources and Services Administration (HRSA) will give funding preference during the FY 2008 competition to current Healthy Start grantees.

Senate Report 110-107 urges “HRSA to give preference to current and former grantees with expiring or recently expired project periods.”

FOR FURTHER INFORMATION CONTACT: Maribeth Badura, Director, Division of Healthy Start and Perinatal Services, Maternal and Child Health Bureau, HRSA, Room 18-12, Parklawn Building, 5600 Fishers Lane, Rockville, Maryland 20857; telephone (301) 443-0543; e-mail MBadura@hrsa.gov.

Dated: May 2, 2008.
Dennis Williams,
Acting Administrator.

[FR Doc. E8-10684 Filed 5-13-08; 8:45 am]

BILLING CODE 4165-15-P